DEPARTMENT OF COMMERCE

International Trade Administration

19 CFR Part 351

[Docket No. 241210-0321]

RIN 0625-AB26

Modernizing the Annexes of the Antidumping and Countervailing Duty Trade Remedy Regulations

AGENCY: Enforcement and Compliance, International Trade Administration, Department of Commerce.

ACTION: Final rule.

SUMMARY: Pursuant to title VII of the Tariff Act of 1930, as amended (the Act), the U.S. Department of Commerce (Commerce) is modernizing the annexes of the trade remedy regulations to enhance the administration of the antidumping duty (AD) and countervailing duty (CVD) laws.

DATES: Effective December 19, 2024.

FOR FURTHER INFORMATION CONTACT: Scott D. McBride, Associate Deputy Chief Counsel for Trade Enforcement and Compliance, at (202) 482-6292, or Jesus Saenz, Senior Attorney, at (202) 482-1823.

SUPPLEMENTARY INFORMATION: Commerce initially promulgated its AD and CVD regulations in 1997 and 1998, respectively.¹ Since the inception of these regulations, Commerce has periodically modified certain sections or paragraphs or adopted new provisions. For example, in 2021 Commerce modified existing regulations covering scope inquiries at 19 CFR 351.225, and adopted new provisions to codify its practice regarding circumvention inquiries and covered merchandise referrals at 19 CFR 351.226 and 351.227.² Commerce modified those regulations as well as promulgating new ones on March 25, 2024, to further improve and strengthen the administration and enforcement of the AD and CVD laws.³ Most recently, on December 16, 2024, Commerce revised certain other existing regulations and promulgated additional new regulations to further enhance the trade remedy laws, with a particular emphasis on CVD laws and procedures.⁴

¹ See Antidumping Duties; Countervailing Duties, Final Rule, 62 FR 27296 (May 19, 1997); and Countervailing Duties; Final Rule, 63 FR 65348, 65357 (November 25, 1998).

² See Regulations to Improve Administration and Enforcement of Antidumping and Countervailing Duty Laws, 86 FR 52300 (Sept. 20, 2021).

³ See Regulations Improving and Strengthening the Enforcement of Trade Remedies Through the Administration of the Antidumping and Countervailing Duty Laws, 89 FR 20766 (March 25, 2024).

⁴ See Regulations Enhancing the Administration of the Antidumping and Countervailing Duty Trade Remedy Laws, 89 FR 101694 (December 16, 2024).

In order to accurately reflect the modified language, dates and new provisions in the AD and CVD regulations, Commerce is modernizing the annexes accompanying the regulations. Specifically, Commerce is updating the number of days and the regulation cross-reference for each of the listed events in annexes I through IV, and annexes VIII-A through VIII-C. Commerce is also creating new annexes IX, X, and XI to provide additional guidance to Scope Inquires, Circumvention Inquiries, and Covered Merchandise Referrals.⁵ Annexes IX, X, and XI will similarly contain a field with the number of days, event name, and regulation for each specific event. Lastly, Commerce is also removing existing Annex V as the provided cross-reference to regulations prior to 1997 is obsolete and reserving it for potential future use of a new annex V.

⁵ See 19 CFR 351.225, 351.226, and 351.227.

Rulemaking Considerations

A. Administrative Procedure Act

The changes in this rulemaking involve rules of agency procedure. See Bachow Commc'ns Inc. v. FCC, 237 F.3d 683, 690 (D.C. Cir. 2001) (changes to procedural rules are not subject to notice and comment review under the Administrative Procedure Act (APA)); Inova Alexandria Hosp. v. Shalala, 244 F.3d 342, 349 (4th Cir. 2001) (rules for handling appeals are procedural where they do not change the substantive standard for reviewing claims); Nat'l Org. of Veterans' Advocates v. Sec'y of Veterans Affairs, 260 F.3d 1365, 1375 (Fed. Cir. 2001) (Substantive rules “effect a change in existing law or policy or which affect individual rights and obligations,” whereas interpretative rules “clarify or explain existing law or regulation and are exempt from notice and comment” review under the APA.).

Accordingly, prior notice and opportunity for public comment for the changes in this rulemaking are not required pursuant to 5 U.S.C. 553(b) or (c) or any other law. See Cooper Techs. Co. v. Dudas, 536 F.3d 1330, 1336-37 (Fed. Cir. 2008) (stating that 5 U.S.C. 553, and thus 35 U.S.C. 2(b)(2)(B), do not require notice and comment rulemaking for “interpretative rules, general statements of policy, or rules of agency organization, procedure, or practice” (quoting 5 U.S.C. 553(b)(A))). Similarly, there is no need for a 30-day delay in effective date pursuant to 5 U.S.C. 553(d)(2).

In addition, Commerce finds good cause pursuant to the authority at 5 U.S.C. 553(b)(B) and 553(d)(3) to forego prior notice, opportunity for public comment, and a 30-day delay in effective date because such procedures are unnecessary. This rulemaking merely updates the annexes to reflect changes to the AD and CVD regulations that have already undergone notice and comment. As such, the contents of the revised annexes have already undergone notice and comment rulemaking, and repeating that process is unnecessary.

B. Regulatory Flexibility Act

As prior notice and an opportunity for public comment are not required pursuant to 5 U.S.C. 553 or any other law, neither a Regulatory Flexibility Act analysis nor a certification under the Regulatory Flexibility Act (5 U.S.C. 601 et seq.) is required. See 5 U.S.C. 603.

C. Executive Order 12866 (Regulatory Planning and Review)

This rulemaking has been determined to be not significant for purposes of Executive Order 12866 (September 30, 1993), as amended by Executive Order 14094 (April 6, 2023).

D. Executive Order 13132 (Federalism)

This rulemaking pertains strictly to Federal agency procedures and does not contain policies with federalism implications sufficient to warrant preparation of a Federalism Assessment under Executive Order 13132 (August 4, 1999).

E. Paperwork Reduction Act

This final rule does not impact information collection requirements that are subject to review by the Office of Management and Budget (OMB) under the Paperwork Reduction Act of 1995 (44 U.S.C. 3501 et seq.).

List of Subjects in 19 CFR Part 351

Administrative practice and procedure, Antidumping, Business and industry, Confidential business information, Countervailing duties, Freedom of information, Investigations, Reporting and recordkeeping requirements.

Dated: December 16, 2024.
Ryan Majerus,
Deputy Assistant Secretary for Policy and Negotiations, performing the non-exclusive functions and duties of the Assistant Secretary for Enforcement and Compliance.

For the reasons stated above, the U.S. Department of Commerce amends 19 CFR part 351 as follows:

PART 351—ANTIDUMPING AND COUNTERVAILING DUTIES

1. The authority citation for part 351 continues to read as follows:

Authority: 5 U.S.C. 301; 19 U.S.C. 1202 note; 19 U.S.C. 1303 note; 19 U.S.C. 1671 et seq.

2. Revise annexes I through IV to read as follows:

Annex I to Part 351—Deadlines for Parties in Countervailing Investigations
Day ¹ | Event | Regulation
0 days | Initiation
31 days ² | Notification of difficulty in responding to questionnaire | 351.301(c)(1)(iii) (14 days after date of receipt of initial questionnaire).
35 days | Submission of factual information not directly responsive to or relating to that described in 351.102(b)(21)(i)-(iv) | 351.301(c)(5) (30 days before preliminary determination) or 14 days before verification.
20 days* | Submission of factual information to measure adequacy of remuneration | 351.301(c)(3)(i)(B) (45 days before preliminary determination).
30 days* | Rebuttal, clarification, or correction of factual information to measure adequacy of remuneration | 351.301(c)(3)(iv) (10 days after filing of factual information to measure adequacy of remuneration).
47 days | Application for an administrative protective order | 351.305(b)(3) (before submission of the first response to the initial questionnaire).
40 days * | Request for postponement by petitioner | 351.205(e) (25 days or more before preliminary determination).
45 days * | Allegation of critical circumstances | 351.206(c)(2)(i) (20 days before preliminary determination).
47 days | Initial Questionnaire response | 351.301(c)(1)(i) (30 days from date of receipt of initial questionnaire).
65 days (May be postponed to 130 days) | Preliminary determination | 351.205(b)(1) (65 days after initiation of the investigation, but may be extended to 130 days after initiation of investigation).
72 days | Submission of proposed suspension agreement | 351.208(f)(1)(i)(B) (7 days after preliminary determination).
75 days | Submission of ministerial error Comments after preliminary determination | 351.224(c)(2) (5 days after the earlier of the release of disclosure documents or a disclosure meeting).
77 days ³ | Request to align a CVD case with a concurrent AD case | 351.210(i) (5 days after date of publication of preliminary determination).
102 days | Request for a hearing | 351.310(c) (30 days after date of publication of preliminary determination).
119 days | Critical circumstances allegation | 351.206(e) (21 days or more before final determination).
122 days | Requests for closed hearing Sessions | 351.310(f) (No later than the date the case briefs are due).
122 days | Submission of briefs | 351.309(c)(1)(i) (50 days after date of publication of preliminary determination).
125 days | Allegation of upstream subsidies | 351.301(c)(2)(iv)(C) 60 days after the preliminary determination).
127 days | Submission of rebuttal briefs | 351.309(d)(1) (5 days after deadline for filing case brief).
129 days | Hearing | 351.310(d)(1) (2 days after submission of rebuttal briefs).
140 days ⁴ (May be postponed to 230 days) | Final determination | 351.210(b)(1) (75 days after preliminary determination, but may be postponed to 165 days after preliminary determination).
150 days | Submission of ministerial error comments after final determination | 351.224(c)(2) (5 days after the earlier of the release of disclosure documents or a disclosure meeting).
155 days | Submission of replies to ministerial error comments | 351.224(c)(3) (5 days after filing of ministerial error comments).
192 days | Order issued | 351.211(b) (7 days after affirmative final injury determination).
¹ Indicates the number of days from the date of initiation. Most of the deadlines shown here are approximate. The actual deadline in any particular segment of a proceeding may depend on the date of an earlier event or be established by the Secretary.
² Assumes that the Department sends out the questionnaire within 10 days of the initiation and allows 7 days for receipt of the questionnaire from the date on which it was transmitted.
³ Assumes that the Preliminary Determination is published 7 days after issuance (i.e., signature).
⁴ Assumes that the Preliminary Determination is published 7 days after issuance (i.e., signature).
* Date may change if Preliminary Determination is postponed.

Annex II to Part 351—Deadlines for Parties in Countervailing Administrative Reviews
Day ¹ | Event | Regulation
0 days | Request for review | 351.213(b)(1) (Last day of the anniversary month).
30 days | Publication of initiation notice | 351.221(c)(1)(i) (End of month following the anniversary month).
66 days ² | Notification of difficulty in responding to questionnaire | 351.301(c)(1)(iii) (14 days after date of receipt of initial questionnaire).
75 days | Application for an administrative protective order | 351.305(b)(3) (before submission of first response).
90 days ³ | Initial Questionnaire response | 351.301(c)(2)(iii) (At least 30 days after date of receipt of initial questionnaire).
104 days | Submission of factual information to rebut, clarify, or correct initial questionnaire response | 351.301(c)(1)(v) (14 days after initial questionnaire response).
110 days | Countervailable subsidy allegation | 351.301(c)(2)(iv)(B) (20 days after filing of all responses to initial questionnaire).
120 days | Withdrawal of request for review | 351.213(d)(1) (90 days after date of publication of initiation).
130 days | Request for verification | 351.307(b)(1)(v) (100 days after date of publication of initiation).
185 days * | Submission of factual information to measure adequacy of remuneration | 351.301(c)(3)(ii) (60 days before preliminary results).
195 days | Rebuttal, clarification, or correction of factual information to measure adequacy of remuneration | 351.301(c)(3)(iv) (10 days after filing of factual information to measure adequacy of remuneration).
215 days * | Submission of factual information not directly responsive to or relating to that described in 351.102(b)(21)(i)-(iv) | 351.301(c)(5) (30 days before preliminary results).
245 days (May be extended to 365 days) | Preliminary results of review | 351.213(h)(1) (245 days after the last day of the anniversary month, but may be extended to 365 days after the last day of the anniversary).
282 days ⁴ | Request for a hearing | 351.310(c) (30 days after date of publication of preliminary results).
282 days | Request for a closed hearing session | 351.310(f) (date on which the case briefs are due).
282 days | Submission of briefs | 351.309(c)(1)(ii) (30 days after date of publication of preliminary results).
287 days | Submission of rebuttal briefs | 351.309(d)(1) (5 days after deadline for filing case briefs).
289 days | Hearing | 351.310(d)(1) (2 days after submission of rebuttal briefs).
372 days ⁵ (May be extended to 422 days) | Final results of review | 351.213(h)(1) (120 days after date of publication of preliminary results, but may be extended to 180 days after date of publication of preliminary results).
382 days | Submission of ministerial error comments | 351.224(c)(2) (5 days after the earlier of the release of disclosure documents or the disclosure meeting).
387 days | Replies to ministerial error comments | 351.224(c)(3) (5 days after filing of comments).
¹ Indicates the number of days from the end of the anniversary month. Most of the deadlines shown here are approximate. The actual deadline in any particular segment of a proceeding may depend on the date of an earlier event or be established by the Secretary.
² Assumes that the Department sends out the questionnaire 45 days after the last day of the anniversary month and allows 7 days for receipt of the questionnaire from the date on which it was transmitted.
³ Assumes that the Department sends out the questionnaire on day 45 and the response is due 45 days later.
⁴ Assumes that the Preliminary Results are published 7 days after issuance (i.e., signature).
⁵ Assumes that the Preliminary Results are published 7 days after issuance (i.e., signature).
* Date may change if Preliminary Results are extended.

Annex III to Part 351—Deadlines for Parties in Antidumping Investigations
Day ¹ | Event | Regulation
0 days | Initiation
21 days | Application/certification for separate rate | 351.108(d)(1) (21 days after publication).
37 days | Application for an administrative protective order | 351.305(b)(3) (before submission of first response to initial questionnaire).
50 days | Country-wide cost allegation | 351.301(c)(2)(iii) (20 days after date on which initial questionnaire was transmitted).
51 days ² | Notification of difficulty in responding to questionnaire | 351.301(c)(1)(iii) (Within 14 days after date of receipt of initial questionnaire).
51 days | Section A response | None.
67 days | Sections B, C, D, E responses | 351.301(c)(1)(i) (At least 30 days after date of receipt of initial questionnaire).
77 days | Viability arguments | 351.301(c)(2)(i) (10 days after response to relevant section of the questionnaire was filed).
80 days * | Submission of publicly available information to value factors (nonmarket economy) | 351.301(c)(3)(i)(A) (60 days before date of publication of preliminary determination).
87 days | Company-specific cost allegations | 351.301(c)(2)(ii)(A) (within 20 days after response to relevant section of questionnaire was filed).
87 days | Major input cost allegations | 351.301(c)(2)(iii) (within 20 days after response to relevant section of questionnaire was filed).
110 days * ³ | Submission of other factual information | 351.301(c)(5) (The sooner of 30 days before preliminary determination or 14 days before verification).
115 days | Request for postponement by petitioner | 351.205(e) (25 days or more before preliminary determination).
120 days | Allegation of critical circumstances | 351.206(c)(2)(i) (20 days before preliminary determination).
140 days (May be postponed to 190 days) | Preliminary determination | 351.205(b)(1) (140 days after the publication of initiation, but may be extended to 190 days after the publication of initiation).
150 days | Submission of ministerial error comments | 351.224(c)(2) (5 days after release of disclosure documents or holding of a disclosure meeting).
155 days | Submission of proposed suspension agreement | 351.208(f)(1)(i)(A) (15 days after preliminary determination).
177 days ⁴ | Request for a hearing | 351.310(c) (30 days after date of publication of preliminary determination).
194 days | Critical circumstance allegation | 351.206(e) (21 days before final determination).
197 days (May be changed) | Request for closed hearing sessions | 351.310(f) (No later than the date the case briefs are due).
197 days (May be changed) | Submission of briefs | 351.309(c)(1)(i) (50 days after date of publication of preliminary determination).
202 days | Submission of rebuttal briefs | 351.309(d)(1) (5 days after deadline for filing case briefs).
204 days | Hearing | 351.310(d)(1) (2 days after submission of rebuttal briefs).
215 days | Request for postponement of the final determination | 351.210(e).
222 days ⁵ (May be postponed to 275 days) | Final determination | 351.210(b)(1) (75 days after the date of publication of preliminary determination, but may be postponed to 135 days after the date of publication of preliminary determination).
232 days | Submission ministerial error comments | 351.224(c)(2) (5 days after release of disclosure documents or holding of a disclosure meeting).
237 days | Replies to ministerial error comments | 351.224(c)(3) (5 days after filing of comments).
274 days | Order issued | 351.211(b).
¹ Indicates the number of days from the date of initiation. Most of the deadlines shown here are approximate. The actual deadline in any particular segment of a proceeding may depend on the date of an earlier event or be established by the Secretary.
² Assumes that the Department sends out the questionnaire 5 days after the ITC vote and allows 7 days for receipt of the questionnaire from the date on which it was transmitted.
³ Assumes 30 days before the preliminary determination is sooner than verification.
⁴ Assumes that the Preliminary Determination is published 7 days after issuance (i.e., signature).
⁵ Assumes that the Preliminary Determination is published 7 days after issuance (i.e., signature).
* Date may change if Preliminary Determination is postponed.

Annex IV to Part 351—Deadlines for Parties in Antidumping Administrative Reviews
Day ¹ | Event | Regulation
0 days | Request for review | 351.213(b)(1) (During the anniversary month).
30 days | Publication of initiation | 351.221(c)(1)(i) (End of month following the anniversary month).
37 days | Application for an administrative protective order | 351.305(b)(3) (Before submission of first response to initial questionnaire).
44 days | Application/certification for separate rate | 351.108(d)(2) (14 days after publication of initiation).
60 days | Request for examine absorption of duties (AD) | 351.213(j) (30 days after date of publication of initiation).
66 days ² | Notification of difficulty in responding to questionnaire | 351.301(c)(1)(iii) (14 days after date of receipt of initial questionnaire).
66 days | Section A response | None.
85 days | Viability arguments | 351.301(c)(2)(i) (10 days after relevant section is filed).
90 days ³ | Sections B, C, D, E response | 351.301(c)(1)(i) (At least 30 days after date of receipt of initial questionnaire).
110 days | Company-specific cost allegations | 351.301(c)(2)(ii)(B) (20 days after relevant section is filed).
110 days | Major input cost allegations | 351.301(c)(2)(iii) (20 days after relevant section is filed).
120 days | Withdrawal of request for review | 351.213(d)(1) (90 days after date of publication of initiation).
130 days | Request for verification | 351.307(b)(1)(v) (100 days after date of publication of initiation).
140 days | Submission of factual information | 351.301(b)(2).
185 days | Submission of publicly available information to value factors (nonmarket economy) | 351.301(c)(3)(ii) (60 days before date of publication of preliminary results).
215 days ⁴ | Submission of other factual information | 351.301(c)(5) (The sooner of 30 days before preliminary results or 14 days before verification).
245 days (May be extended to 365 days) | Preliminary results of review | 351.213(h)(1) (245 days after the last day of the anniversary month, but may be extended to 365 days after the last day of the anniversary month.
282 days | Request for a hearing and/or closed hearing session | 351.310(c); 351.310(f) (30 days after date of publication of preliminary results).
282 days | Submission of briefs | 351.309(c)(1)(ii) (30 days after date of publication of preliminary results).
287 days | Submission of rebuttal briefs | 351.309(d)(1) (5 days after deadline for filing case briefs).
289 days | Hearing; closing hearing session | 351.310(d)(1) (2 days after submission of rebuttal briefs).
372 days ⁵ (May be extended) | Final results of review | 351.213(h)(1) (120 days after the date of publication of preliminary results, but may be extended to 300 days after the date of publication of the preliminary results).
382 days | Ministerial error comments | 351.224(c)(2) (5 days after release of disclosure documents).
387 days | Replies to ministerial error comments | 351.224(c)(3) (5 days after filing of comments).
¹ Indicates the number of days from the end of the anniversary month. Most of the deadlines shown here are approximate. The actual deadline in any particular segment of a proceeding may depend on the date of an earlier event or be established by the Secretary.
² Assumes that the Department sends out the questionnaire 45 days after the last day of the anniversary month and allows 7 days for receipt of the questionnaire from the date on which it was transmitted.
³ Assumes that the Department sends out the questionnaire on day 45 and the response is due 45 days later.
⁴ Assumes 30 days before the Preliminary Results is earlier than 14 days before verification.
⁵ Assumes that the Preliminary Results are published 7 days after issuance (i.e., signature).

Annex V [Removed and Reserved]

3. Remove and reserve annex V.

4. Revise annex VIII-A through VIII-C to read as follows:

Annex VIII-A to Part 351—Deadlines for Parties in 90-Day Sunset Reviews
Day ¹ | Event | Regulation
0 days | Initiation | 351.218(c).
15 days | Filing of Notice of Intent to Participate by domestic interested parties | 351.218(d)(1)(i) (not later than 15 days after the date of publication of the Notice of Initiation).
20 days | Notification to the ITC that no domestic interested party(s) has responded to the Notice of Initiation | 351.218(d)(1)(iii)(B)(2) (normally not later than 20 days after the date of publication of the Notice of Initiation).
30 days | Filing of substantive response to the Notice of Initiation by all interested parties; industrial users; and consumers | 351.218(d)(3)(i) and 351.218(d)(3)(vi) (not later than 30 days after the date of publication of the Notice of Initiation).
35 days | Filing of rebuttal to substantive response to the Notice of Initiation | 351.218(d)(4) (not later than 5 days after the substantive response is filed with the Department).
40 days | Notification to the ITC that no domestic interested party(s) provided adequate response to the Notice of Initiation | 351.218(e)(1)(i)(C)(2) (normally not later than 40 days after the date of publication of the Notice of Initiation).
90 days | Final determination revoking an order or terminating a suspended investigation where no domestic interested party(s) responds to the Notice of Initiation | 351.218(d)(1)(iii)(B)(3) and 351.222(i)(1)(i) (normally not later than 90 days after the date of publication of the notice of Initiation).
¹ Indicates the number of days from the date of publication of the Notice of Initiation. Most of the deadlines shown here are approximate. The actual deadline in any particular segment of a proceeding may depend on the date of an earlier event or be established by the Secretary.

Annex VIII-B to Part 351—Deadlines for Parties in Expedited Sunset Reviews
Day ¹ | Event | Regulation
0 days | Initiation | 351.218(c).
15 days | Filing of Notice of Intent to Participate by domestic interested parties | 351.218(d)(1)(i) (not later than 15 days after the date of publication of the Notice of Initiation).
30 days | Filing of Statement of Waiver by respondent interested parties | 351.218(d)(2)(i) (not later than 30 days after the date of publication of the Notice of Initiation).
30 days | Filing of a complete substantive response to the Notice of Initiation by all interested parties and industrial users and consumers | 351.218(d)(3)(i) and 351.218(d)(3)(vi) (not later than 30 days after the date of publication of the Notice of Initiation).
35 days | Filing of rebuttal to substantive response to the Notice of Initiation | 351.218(d)(4) (not later than 5 days after the substantive response is filed with the Department).
50 days | Written notification to the ITC that respondent interested parties provided inadequate response to the Notice of Initiation | 351.218(e)(1)(ii)(C)(1) (normally not later than 50 days after the date of publication of the Notice of Initiation).
70 days | Comments on adequacy of response and appropriateness of expedited sunset review | 351.309(e)(ii) (not later than 70 days after the date of publication of the Notice of Initiation).
120 days | Final results of expedited sunset review where respondent interested parties, and foreign governments, provide inadequate response to the Notice of Initiation | 351.218(e)(1)(ii)(B) and 351.218(e)(1)(ii)(C)(2) (not later than 120 days after the date of publication of the Notice of Initiation).
¹ Indicates the number of days from the date of publication of the Notice of Initiation. Most of the deadlines shown here are approximate. The actual deadline in any particular segment of a proceeding may depend on the date of an earlier event or be established by the Secretary.

Annex VIII-C to Part 351—Deadlines for Parties in Full Sunset Reviews
Day ¹ | Event | Regulation
0 days | Initiation
15 days | Filing of Notice of Intent to Participate by domestic interested parties | 351.218(d)(1)(i) (not later than 15 days after the date of publication of the Notice of Initiation).
30 days | Filing of Statement of Waiver by respondent interested parties | 351.218(d)(2)(i) (not later than 30 days after the date of publication of the Notice of Initiation).
30 days | Filing of substantive response to the Notice of Initiation by all interested parties; industrial users; and consumers | 351.218(d)(3)(i) and 351.218(d)(3)(vi) (not later than 30 days after the date of publication of the Notice of Initiation).
35 days | Filing of rebuttal to substantive response to the Notice of Initiation | 351.218(d)(4) (not later than 5 days after the substantive response is filed with the Department).
110 days | Preliminary results of full sunset review | 351.218(f)(1) (normally not later than 110 days after the date of publication of the Notice of Initiation).
120 days | Verification in a full sunset review, where needed | 351.218(f)(2)(ii) (normally an approximate of 120 days after the date of publication of the Notice of Initiation).
160 days | Filing of case brief in full sunset review | 351.309(c)(1)(i) (50 days after the date of publication of the preliminary results of full sunset review).
165 days | Filing of rebuttal brief in full sunset review | 351.309(d)(1) (5 days after the time limit for filing a case brief, unless the Secretary alters the time limit).
167 days | Public hearing in full sunset review if requested | 351.310(d)(i) (ordinarily 2 days after the time limit for filing a rebuttal brief, unless the Secretary alters the date).
240 days | Final results of full sunset review | 351.218(f)(3)(i) (normally not later than 240 days after the date of publication of the Notice of Initiation).
330 days (may be extended to 420 days) | Final results of full sunset review if fully extended | 351.218(f)(3)(ii) (if full sunset review is extraordinarily complicated, period for issuing final results, but may be extended by not more than 90 days).
¹ Indicates the number of days from the date of publication of the Notice of Initiation. Most of the deadlines shown here are approximate. The actual deadline in any particular segment of a proceeding may depend on the date of an earlier event or be established by the Secretary.

5. Add annexes IX and X to read as follows:

Annex IX to Part 351—Deadlines for Parties in Scope Rulings
Day ¹ | Event | Regulation
0 days | Secretary's self-initiation or filing of scope rule application | 351.225(b)/(c)(1).
10 days | Comments on adequacy of the request by non-applicant | 351.225(c)(3) (10 days after applicant filed application under (c)(1)).
24 days | Comments and factual information Submission of rebuttal addressing self-initiation | 351.225(f)(1) (14 days after comments were filed under (b)).
30 days | Secretary's determination whether to initiate inquiry | 351.225(d)(1) (30 days after application was filed or response to questionnaire is filed).
30 days | Submission of comments and factual information addressing self-initiation | 351.225(f)(1) (30 days after Secretary's self-initiated scope inquiry under (b)).
31 days ² | Issuance of preliminary scope ruling | 351.225(g).
45 days ³ | Issuance of questionnaires | 351.225(f)(3).
45 days | Scope comments under (g) | 351.225(f)(4) (14 days after issuance of preliminary scope ruling).
52 days | Rebuttal comments under (g) | 351.225(f)(4) (7 days after scope comments were filed under (f)(4)).
60 days | Comments and factual information Submission of rebuttal by non-applicant | 351.225(f)(2) (30 days after initiation under (d)(1)).
74 days | Comments and factual information Submission of rebuttal by applicant | 351.225(f)(2) (14 days after rebuttal by non-applicant was filed under (d)(1)).
90 days | Comments and factual information Response to questionnaires | 351.225(f)(3) (specified by the Secretary).
104 days | Comments and factual information Rebuttal to questionnaire response | 351.225(f)(3) (14 days after questionnaire response was filed by original submitter).
111 days | Comments and factual information Rebuttal to questionnaire response's rebuttal | 351.225(f)(3) (7 days after rebuttal to questionnaire response was filed).
120 days (may be extended to 300 days) | Issuance of final scope ruling | 351.225(e)(1) (120 days after initiation under (b) or (d), but may be extended to 300 days after initiation).
| Publication of final scope rulings | 351.225(o) (quarterly).
| Publication of scope clarifications | 351.225(q).
¹ Indicates the number of days from the date of initiation. Most of the deadlines shown here are approximate. The actual deadline in any particular segment of a proceeding may depend on the date of an earlier event or be established by the Secretary.
² Assumes the Secretary did not issue a preliminary scope ruling concurrently with the Initiation of the scope inquiry.
³ Assumes that the Department sends out the questionnaire on day 45 and the response is due 45 days later.

Annex X to Part 351—Deadlines for Parties in Circumvention Inquiries
Day ¹ | Event | Regulation
0 days | Circumvention inquiry request or self-initiation | 351.226(b).
10 days | Comments and information on the adequacy of the request | 351.226(c)(3) (10 days after the circumvention inquiry request is filed).
15 days | Rebuttal comments | 351.226(c)(3) (5 days after new factual information in support of adequacy comments is filed).
30 days | Initiation determination of circumvention inquiry based on a request | 351.226(d)(1) (30 days after the circumvention inquiry request is filed unless Secretary finds it is impracticable or seeks clarification).
30 days | Comments and information addressing self-initiation | 351.226(f)(1) (30 days after a circumvention inquiry is self-initiated).
30 days | Scope ruling application rebuttal comments | 351.226(f)(2) (30 days after a circumvention inquiry is initiated under paragraph (d)(1)).
44 days | Applicant rebuttal comments | 351.226(f)(2) (14 days after scope ruling application rebuttal comments are filed).
157 days ² | Preliminary determination of self-initiated circumvention inquiry | 351.226(e)(1) (150 days after the notice of self-initiation is published).
187 days ³ | Preliminary determination of circumvention inquiry based on a request | 351.226(e)(1) (150 days after the notice of initiation is published).
171 days | Preliminary determination comments in self-initiated circumvention inquiry | 351.226(f)(4) (14 days after the preliminary determination is issued).
201 days | Preliminary determination comments in circumvention inquiry based on a request | 351.226(f)(4) (14 days after the preliminary determination is issued).
178 days | Preliminary determination rebuttal comments in self-initiated circumvention inquiry | 351.226(f)(4) (7 days after the preliminary determination are filed).
208 days | Preliminary determination rebuttal comments in circumvention inquiry based on a request | 351.226(f)(4) (7 days after the preliminary determination are filed).
300 days or 365 days | Final determination of self-initiated circumvention inquiry | 351.226(e)(2) (300 days after the notice of initiation is published) (May be extended by no more than 65 days).
330 days or 395 days | Final determination of circumvention inquiry based on a request | 351.226(e)(2) (300 days after the notice of initiation is published) (May be extended by no more than 65 days).
¹ Indicates the number of days from Initiation. Most of the deadlines shown here are approximate. The actual deadline in any particular segment of a proceeding may depend on the date of an earlier event or be established by the Secretary.
² Assumes that the Preliminary Results are published 7 days after issuance (i.e., signature).
³ Assumes that the Preliminary Results are published 7 days after issuance (i.e., signature).

6. Add annexes XI-A and XI-B to read as follows:

Annex XI-A to Part 351—Deadlines for Covered Merchandise Referral Without Preliminary Determination
Day ¹ | Event | Regulation
0 days | Initiation | 351.227(b)(1) (within 20 days after acknowledging receipt of a covered merchandise referral from U.S. Customs and Border Protection).
30 days | Filing of comments and factual information to the Notice of Initiation by interested parties | 351.227(d)(1) (within 30 days after publication of the notice of an initiation of a covered merchandise).
44 days | Filing of rebuttal comments and factual information to the Notice of Initiation by other interested parties | 351.227(d)(1) (within 14 days after filing of comments and factual information by interested parties).
X ¹ days | Questionnaire submission received by Commerce | 351.227(d)(2) (after the initiation of a covered merchandise inquiry).
X + 14 days | Filing of rebuttal, clarification, or correction of factual comment by an interested party other than the original submitter to the questionnaire response | 351.227(d)(2) (within 14 days after a questionnaire response has been filed with the Secretary by the original submitter).
X + 21 days | Filing of rebuttal, clarification, or correction comment to the rebuttal, clarification, or correction of factual comment of the interested party by the original submitter | 351.227(d)(2) (within 7 days of the filing of the rebuttal comment by interested party).
120 days | Final covered merchandise determination | 351.227(c)(1) (within 120 days from the date of publication of the Notice of Initiation, unless (1) extended by no more than 150 days under 351.227(c)(2), or (2) aligned with other segments under 351.227(c)(3)).
¹ Indicates the approximate number of days from the date of publication of the Notice of Initiation. Most of the deadlines shown here are approximate. The actual deadline in any particular segment of a proceeding may depend on the date of an earlier event or be established by the Secretary.
² X represents the date a questionnaire is received by Commerce.

Annex IX-B to Part 351—Deadlines for Covered Merchandise Referral With Preliminary Determination
Day ¹ | Event | Regulation
0 | Initiation ² | 351.227(b)(1) (within 20 days after acknowledging receipt of a covered merchandise referral from U.S. Customs and Border Protection).
30 | Filing of comments and factual information to the Notice of Initiation by interested parties | 351.227(d)(1) (within 30 days after publication of the notice of an initiation of a covered merchandise).
44 | Filing of rebuttal comments and factual information to the Notice of Initiation by other interested parties | 351.227(d)(1) (within 14 days after filing of comments and factual information by interested parties).
X ³ | Questionnaire submission received by Commerce | 351.227(d)(2) (after the initiation of a covered merchandise inquiry).
X + 14 | Filing of rebuttal, clarification, or correction of factual comment by an interested party other than the original submitter to the questionnaire response | 351.227(d)(2) (within 14 days after a questionnaire response has been filed with the Secretary by the original submitter).
X + 21 | Filing of rebuttal, clarification, or correction comment to the rebuttal, clarification, or correction of factual comment of the interested party by the original submitter | 351.227(d)(2) (within 7 days of the filing of the rebuttal comment by interested party).
Z ⁴ | Preliminary Determination | 351.227(e) (may be between concurrently with Initiation and before Final Determination).
Z + 14 ⁵ | Comment to Preliminary Determination by interested parties | 351.227(d)(3) (within 14 days after Preliminary Determination unless otherwise specified by Commerce).
Z + 21 | Rebuttal comment to comment to Preliminary Determination by other interested parties ³ | 351.227(d)(3) (within 7 days after comment to Preliminary Determination unless otherwise specified by Commerce).
120 | Final covered merchandise determination | 351.227(c)(1) (within 120 days from the date of publication of the Notice of Initiation, unless (1) extended by no more than 150 days under 351.227(c)(2), or (2) aligned with other segments under 351.227(c)(3)).
¹ Indicates the approximate number of days from the date of publication of the Notice of Initiation. Most of the deadlines shown here are approximate. The actual deadline in any particular segment of a proceeding may depend on the date of an earlier event or be established by the Secretary.
² Commerce may issue a preliminary determination, either concurrently with the initiation or not. 19 CFR 351.227(e)(1). If Commerce issues a Preliminary Determination concurrently with Initiation, 19 CFR 351.227(d)(1)-(3) will not apply, pursuant to 19 CFR 351.227(d)(4). In such cases, Commerce will establish appropriate procedures on a case-specific basis. 19 CFR 351.227(d)(4).
³ X represents the date a questionnaire is received by Commerce.
⁴ Z represents the date of the Preliminary Determination.
⁵ If a Preliminary Determination is not issued concurrently with Initiation, Commerce will establish a schedule for the filing of comments and rebuttal comments to the Preliminary Determination. 19 CFR 351.227(d)(3).

[FR Doc. 2024-30257 Filed 12-18-24; 8:45 am]

BILLING CODE 3510-DS-P